U.S.-CHINA ECONOMIC AND SECURITY REVIEW COMMISSION

Notice of Open Public Hearing

AGENCY: U.S.-China Economic and Security Review Commission.

ACTION: Notice of open public hearing—August 22, 2006, Washington, DC.

SUMMARY: Notice is hereby given of the following hearing of the U.S.-China Economic and Security Review Commission.

Name: Larry M. Wortzel, Chairman of the U.S.-China Economic and Security Review Commission.

The Commission is mandated by Congress to investigate, assess, evaluate and report to Congress annually on the U.S.-China economic and security relationship. The mandate specifically charges the Commission to investigate “the extent of Chinese access to, and use of United States capital markets, and whether the existing disclosure and transparency rules are adequate to identify Chinese companies which are active in United States markets and are also engaged in proliferation activities or other activities harmful to United States security interests.”

Pursuant to this mandate, the Commission will hold a public hearing in Washington, DC on August 22, 2006, to assess the nature and consequences of interaction between the Chinese and U.S. capital markets. China agreed to open its financial system to foreign participation when it joined the World Trade Organization. This process is already underway and accelerating, and the Commission, therefore, believes it is important and timely to assess the nature and consequences of interaction between the Chinese and U.S. capital markets.

Background

This event is the seventh in a series of public hearings the Commission will hold during its 2006 report cycle to collect input from leading experts in academia, business, industry, government and the public on the impact of the economic and national security implications of the U.S. growing bilateral trade and economic relationship with China. The August 22 hearing is being conducted to obtain commentary about the economic and national security implications of Chinese macroeconomic policies on U.S. capital markets, exchange rates and interest rates. Information on upcoming hearings, as well as transcripts of past Commission hearings, can be obtained from the USCC Web site http://www.uscc.gov.

This hearing will address “China's Financial System and Monetary Policies: The Impact on U.S. Exchange Rates, Capital Markets, and Interest Rates” and will be Co-chaired by Chairman Larry M. Wortzel and Commissioner Patrick A. Mulloy.

Purpose of Hearing

At this hearing the Commission seeks to assess the health of the Chinese financial system, evaluate the nature of foreign participation and understand the relationship between China's financial system and domestic Chinese politics. The Commission also seeks to explore the nature of capital flows into and out of China in order to understand how those flows affect U.S. interest rates and the value of the dollar.

The hearing is designed to assist the Commission in fulfilling its mandate by examining the condition of China's financial system, its increasing openness to foreign competition as required under WTO rules, China's WTO commitments to the financial sector, and the impact of Chinese macroeconomic policies on U.S. capital markets.

Copies of the hearing agenda will be made available on the Commission's Web site http://www.uscc.gov. Any interested party may file a written statement by August 22, 2006, by mailing to the contact below. The hearing will be held in two sessions, one in the morning and one in the afternoon, where Commissioners will take testimony from invited witnesses. There will be a question and answer period between the Commissioners and the witnesses.

Date and Time: Tuesday, August 22, 2006, 8:30 a.m. to 4:30 p.m. Eastern Standard Time. A detailed agenda for the hearing will be posted to the Commission's Web site http://www.uscc.gov in the near future.

ADDRESSES: The hearing will be held on Capitol Hill in Room 385 Russell Senate Office Building. Public seating is limited to about 50 people on a first come, first served basis. Advance reservations are not required.

FOR FURTHER INFORMATION CONTACT: Any member of the public wishing further information concerning the hearing should contact Kathy Michels, Associate Director for the U.S.-China Economic and Security Review Commission, 444 North Capitol Street, NW., Suite 602, Washington, DC 20001; phone: 202-624-1409, or via E-mail at kmichels@uscc.gov.

Authority: Congress created the U.S.-China Economic and Security Review Commission in 2000 in the National Defense Authorization Act (Pub. L. 106-398), as amended by Division P of the Consolidated Appropriations Resolution, 2003 (Pub. L. 108-7), as amended by Public Law 109-108 (November 22, 2005).

Dated: August 9, 2006.
Kathleen J. Michels,
Associate Director, U.S.-China Economic and Security Review Commission.

[FR Doc. E6-13303 Filed 8-14-06; 8:45 am]

BILLING CODE 1137-00-P